DEPARTMENT OF HEALTH AND HUMAN SERVICES

National Institutes of Health

National Institute of Dental & Craniofacial Research; Amended Notice of Meeting

Notice is hereby given of a change in the meeting of the National Advisory Dental and Craniofacial Research Council, January 20, 2003, 8:30 a.m. to January 20, 2003, 4 p.m., National Institutes of Health, Natcher Building, 45 Center Drive, Bethesda, MD, 20892 which was published in the Federal Register on December 23, 2003, 68 FR 74246.

The actual meeting will be held on January 20, 2004, not on January 20, 2003. The meeting is partially closed to the public.

Dated: December 30, 2003.
Anna Snouffer,
Acting Director, Office of Federal Advisory Committee Policy.

[FR Doc. 04-182 Filed 1-5-04; 8:45 am]

BILLING CODE 4140-01-M